COMMITTEE FOR THE IMPLEMENTATION OF TEXTILE AGREEMENTS

Cancellation of Visa, ELVIS, Guaranteed Access Level (GAL) Certification, and Exempt Certification Requirements for Member Countries of the World Trade Organization (WTO)

December 14, 2004.

AGENCY: Committee for the Implementation of Textile Agreements (CITA).

ACTION: Issuing a directive to the Commissioner, Bureau of Customs and Border Protection canceling visa requirements for WTO member countries.

DATES: Effective Date: January 1, 2005.

FOR FURTHER INFORMATION CONTACT: Philip J. Martello, Director, Trade and Data Division, Office of Textiles and Apparel, U.S. Department of Commerce, (202) 482-3400.

SUPPLEMENTARY INFORMATION:

Authority: Executive Order 11651 of March 3, 1972, as amended; Section 204 of the Agricultural Act of 1956, as amended (7 U.S.C. 1854).

The WTO Agreement on Textiles and Clothing (ATC), approved by Congress as part of the Uruguay Round Agreements Act, provides for the integration of the textiles and clothing sectors into the General Agreement on Tariffs and Trade 1994. In accordance with its obligations under the ATC, and consistent with Section 331 of the Uruguay Round Agreements Act and the schedule announced by CITA on May 1, 1995 (60 FR 21075), the United States will no longer impose textile and apparel quotas under the ATC for goods exported on or after January 1, 2005. Consistent with these obligations, the United States has informed its trading partners with whom it has entered into visa arrangements in order to carry out such quotas and which are members of the WTO that such visa arrangements will be terminated and will not apply to goods exported from the country of origin on and after January 1, 2005.

In the letter below, CITA instructs the Bureau of Customs and Border Protection to cancel all requirements for visas, ELVIS transmissions, GAL certifications, and exempt certifications, for goods exported from the country of origin on or after January 1, 2005. For goods that are the product of countries that are not members of the WTO, applicable requirements for visas, ELVIS transmissions, GAL certifications, and exempt certifications will remain in effect.

James C. Leonard III,
Chairman, Committee for the Implementation of Textile Agreements.

Committee for the Implementation of Textile Agreements

Commissioner, Bureau of Customs and Border Protection, Washington, DC 20229.

Dear Commissioner: This directive cancels all previous directives concerning requirements for visa, ELVIS transmissions, Guaranteed Access Level (GAL) Certifications, and Exempt Certifications, issued to you by the Chairman, Committee for the Implementation of Textile Agreements, for the following countries, covering cotton, wool, man-made fiber, silk blend and non-cotton vegetable fiber textile and textile products subject to the Agreement on Textiles and Clothing, effective for goods exported from those countries on and after January 1, 2005: Bahrain, Bangladesh, Brazil, Cambodia, China, Colombia, Costa Rica, Dominican Republic, Egypt, El Salvador, Fiji, Guatemala, Haiti, Hong Kong, Hungary, India, Indonesia, Jamaica, Japan, Korea, Lebanon, Macau, Malaysia, Maldives, Mauritius, Macedonia, Nepal, Oman, Pakistan, Panama, Peru, Poland, Philippines, Qatar, Romania, Singapore, Slovak Republic, Sri Lanka, Taiwan, Thailand, Trinidad, Turkey, UAE, and Uruguay.

The Committee for the Implementation of Textile Agreement has determined that this action falls within the foreign affairs exception to the rulemaking provisions of 5 U.S.C. 553(a)(1).

Sincerely,

James C. Leonard III,

Chairman, Committee for the Implementation of Textile Agreements.

[FR Doc. 04-27789 Filed 12-15-04; 4:05 pm]

BILLING CODE 3510-DS-U